DEPARTMENT OF HOUSING AND URBAN DEVELOPMENT

[Docket No. FR-4563-N-20]

Notice of Proposed Information Collection for Public Comment for the Public Housing Development and Mixed-Finance Development of Units; Proposal, Financial Feasibility, Site Information, Turnkey Method, Evidentiary Materials

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: February 20, 2001.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing Development and Mixed-Finance Development of Units; Proposal, Financial Feasibility, Site Information, Turnkey Method, Evidentiary Materials.

OMB Control Number: 2577-0033.

Description of the need for the information and proposed use: Public Housing Agencies (PHAs) must provide information to HUD before a proposal can be approved for development or mixed-finance development. The information on HUD-prescribed forms provides HUD with sufficient information to enable a determination that funds should or should not be reserved or a contractural commitment made. For mixed-finance development, HUD must ensure that the Federal investment of funds in a public housing project is secure and that proposed public housing units are made available only to eligible low-income families. This information collection is necessary for HUD to conduct a subsidy layering analysis pursuant to Section 102(d) of the HUD Reform Act of 1989.

Agency form number: HUD-52483-A, HUD-52482, HUD-51971-I, HUD-51971-II, HUD-52651-A, HUD-52485.

Members of affected public: State or Local Government.

Estimation of the total number of hours needed to prepare the information collection including number of respondents, frequency of response, and hours of response: 334 respondents, annually, 23 hours average per response; total annual reporting burden 7,595 hours.

Status of the proposed information collection: Extension, without change.

Authority: Section 3506 of the Paperwork Reduction Act of 1995, 44 U.S.C. Chapter 35, as amended.

Dated: December 12, 2000.
Milan Ozdinec,
Acting General Deputy Assistant Secretary for Public and Indian Housing.

BILLING CODE 4210-33-M

[FR Doc. 00-32220 Filed 12-18-00; 8:45 am]

BILLING CODE 4210-33-C